Title 3—

The President

Proclamation 10914 of April 8, 2025

Regulatory Relief for Certain Stationary Sources To Promote American Energy

By the President of the United States of America

A Proclamation

1. Coal-fired electricity generation is essential to ensuring that our Nation's grid is reliable and that electricity is affordable for the American people, and to promoting our Nation's energy security. The Federal Government plays a pivotal role in ensuring that the Nation's power supply remains secure and reliable. Forcing energy producers to comply with unattainable emissions controls jeopardizes this mission.

2. On May 7, 2024, the Environmental Protection Agency published a final rule titled National Emissions Standards for Hazardous Air Pollutants: Coal- and Oil-Fired Electric Utility Steam Generating Units Review of the Residual Risk and Technology Review, 89 FR 38508 (Rule), which amended the preexisting Mercury and Air Toxics Standards (MATS) rule to make it more stringent. The Rule's effective date was July 8, 2024. Id. Its compliance date is July 8, 2027, 3 years after its effective date. See 89 FR 38519.

3. The Rule places severe burdens on coal-fired power plants and, through its indirect effects, on the viability of our Nation's coal sector. Specifically, the Rule requires compliance with standards premised on the application of emissions-control technologies that do not yet exist in a commercially viable form. The current compliance timeline of the Rule therefore raises the unacceptable risk of the shutdown of many coal-fired power plants, eliminating thousands of jobs, placing our electrical grid at risk, and threatening broader, harmful economic and energy security effects. This in turn would undermine our national security, as these effects would leave America vulnerable to electricity demand shortages, increased dependence on foreign energy sources, and potential disruptions of our electricity and energy supplies, particularly in times of crisis.

NOW, THEREFORE, I, DONALD J. TRUMP, President of the United States of America, by the authority vested in me by the Constitution and the laws of the United States of America, including section 112(i)(4) of the Clean Air Act, 42 U.S.C. 7412(i)(4), do hereby proclaim that certain stationary sources subject to the Rule, as identified in Annex I of this proclamation, are exempt from compliance with the Rule for a period of 2 years beyond the Rule's compliance date—i.e., for the period beginning July 8, 2027, and concluding July 8, 2029 (Exemption). The effect of this Exemption is that, during this 2-year period, these stationary sources are subject to the compliance obligations that they are currently subject to under the MATS as the MATS existed prior to the Rule. In support of this Exemption, I hereby make the following determinations:

a. The technology to implement the Rule is not available. Such technology does not exist in a commercially viable form sufficient to allow implementation of and compliance with the Rule by its compliance date of July 8, 2027.

b. It is in the national security interests of the United States to issue this Exemption for the reasons stated in paragraph 3 of this proclamation.

IN WITNESS WHEREOF, I have hereunto set my hand this eighth day of April, in the year of our Lord two thousand twenty-five, and of the Independence of the United States of America the two hundred and forty-ninth.

Billing code 3395-F4-P

[FR Doc. 2025-06936

Filed 4-18-25; 11:15 am]

Billing code 3395-F4-C